DEPARTMENT OF HOMELAND SECURITY

U.S. Immigration and Customs Enforcement

[OMB Control Number 1653-0021]

Agency Information Collection Activities; Extension, Without Change, of a Currently Approved Collection: Application for a Stay of Deportation or Removal

AGENCY: U.S. Immigration and Customs Enforcement, Department of Homeland Security.

ACTION: 60-Day notice.

SUMMARY: In accordance with the Paperwork Reduction Act (PRA) of 1995, the Department of Homeland Security (DHS), U.S. Immigration and Customs Enforcement (ICE) will submit the following Information Collection Request (ICR) to the Office of Management and Budget (OMB) for review and clearance.

DATES: Comments are encouraged and will be accepted until August 8, 2023.

ADDRESSES: All submissions received must include the OMB Control Number 1653-0021 in the body of the correspondence, the agency name and Docket ID ICEB-2008-0006. All comments received will be posted without change to http://www.regulations.gov, including any personal information provided. Submit comments via the Federal eRulemaking Portal website at http://www.regulations.gov under e-Docket ID number ICEB-2008-0006.

FOR FURTHER INFORMATION CONTACT: If you have questions related to this revision, please contact: James Laforge, ERO Domestic Operations Unit, (973) 392-8026, james.a.laforge@ice.dhs.gov.

(This is not a toll-free number. Comments are not accepted via telephone message).

SUPPLEMENTARY INFORMATION:

Comment

Written comments and suggestions from the public and affected agencies concerning the proposed collection of information should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension, without change, of a currently approved collection.

(2) Title of the Form/Collection: Application for a Stay of Deportation or Removal.

(3) Agency form number, if any, and the applicable component of the Department of Homeland Security sponsoring the collection: I-246; U.S. Immigration and Customs Enforcement.

(4) Affected public who will be asked or required to respond, as well as a brief abstract: Primary: individual or households; business or other for-profit. The information collected on the I-246 is necessary for ICE to make a determination that the eligibility requirements for a request for a stay of deportation or removal are met by the applicant.

(5) An estimate of the total number of respondents and the amount of time estimated for an average respondent to respond: 3,664 responses at 30 minutes (.50 hours) per response.

(6) An estimate of the total public burden (in hours) associated with the collection: The total estimated annual hour burden is 1,832 hours.

Dated: June 6, 2023.
Scott Elmore,
PRA Clearance Officer, U.S. Immigrations and Customs Enforcement, Department of Homeland Security.

[FR Doc. 2023-12349 Filed 6-8-23; 8:45 am]

BILLING CODE 9111-28-P